OFFICE OF THE UNITED STATES TRADE REPRESENTATIVE

Charter Renewal of the Trade Advisory Committee on Africa (TACA); Request for Nominations

AGENCY: Office of the United States Trade Representative.

ACTION: Notice of renewal of the charter and request for nominations.

SUMMARY: On March 27, 2006, the United States Trade Representative (USTR) renewed the charter of the Trade Advisory Committee on Africa (TACA), for a four-year term to expire on March 27, 2010. The TACA advises the USTR on trade and development policy matters with respect to the countries of sub-Saharan Africa. There are currently opportunities for membership on this Committee.

DATES: In order to receive full consideration, nominations for current vacancies should be received not later than June 25, 2006. Nominations will be accepted after June 25 until the expiration of the charter term on March 27, 2010, for appointments made on a rolling basis as vacancies arise.

ADDRESSES: Submission by electronic mail: FR0616@ustr.eop.gov. Submissions by facsimile: Lois Stith, Program Assistant, Office of Intergovernmental Affairs & Public Liaison, at (202) 395-4827. The public is strongly encouraged to submit documents electronically rather than by facsimile.

FOR FURTHER INFORMATION CONTACT: Constance Hamilton, Deputy Assistant U.S. Trade Representative for African Affairs, (202) 395-9514.

SUPPLEMENTARY INFORMATION: Pursuant to the Federal Advisory Committee Act (5 U.S.C. appendix 2), section 135 of the Trade Act of 1974, as amended (19 U.S.C. 2155), and section 14 of the AGOA Acceleration Act of 2004, the United States Trade Representative (USTR) has renewed the charter of the Trade Advisory Committee on Africa.

Background

Section 135 of the Trade Act of 1974, as amended (19 U.S.C. 2155), established a private-sector trade advisory system to ensure that U.S. trade policy and trade negotiation objectives adequately reflect U.S. commercial and economic interests. Section 135(a)(2) directs the President to:

seek information and advice from representative elements of the private sector and the non-Federal governmental sector with respect to

(A) Negotiating objectives and bargaining positions before entering into a trade agreement under [title I of the Trade Act of 1974 and section 2103 of the Bipartisan Trade Promotion Authority Act of 2002];

(B) The operation of any trade agreement once entered into, including preparation for dispute settlement panel proceedings to which the United States is a party; and

(C) Other matters arising in connection with the development, implementation, and administration of the trade policy of the United States* * *

Section 135(c)(1) of the 1974 Trade Act provides that:

[t]he President may establish individual general policy advisory committees for industry, labor, agriculture, services, investment, defense, and other interests, as appropriate, to provide general policy advice on matters referred to in subsection (a) of this section. Such committees shall, insofar as is practicable, be representative of all industry, labor, agricultural, service, investment, defense, and other interests, respectively, including small business interests, and shall be organized by the United States Trade Representative and the Secretaries of Commerce, Defense, Labor, Agriculture, the Treasury, or other executive departments, as appropriate. The members of such committees shall be appointed by the United States Trade Representative in consultation with such Secretaries.

Section 14 of the AGOA Acceleration Act of 2004 directs the President to convene the TACA “in order to facilitate the goals and objectives of the African Growth and Opportunity Act and this Act, and to maintain ongoing discussions with African trade and agricultural ministries and private sector organizations on issues of mutual concern, including regional and international trade concerns and World Trade Organization issues.”

Pursuant to these provisions, the United States Trade Representative (USTR) renewed the charter of the Trade Advisory Committee on Africa (TACA) on March 27, 2006.

Functions

The duties of the TACA are to provide the President, through the USTR, with policy advice on issues involving trade and development in sub-Saharan Africa. The TACA is expected to meet an average of two to three times a year in Washington, DC.

Membership

Members serve without compensation and are responsible for all expenses incurred to attend the meetings. TACA members are appointed by the USTR. Appointments are made at the chartering of the TACA and periodically throughout the four-year charter term. Members serve at the discretion of the USTR. Appointments to the TACA expire at the end of the TACA's charter term, in this case, March 27, 2010.

Eligibility

Eligibility for membership on the TACA is limited to U.S. citizens who are not full-time employees of a governmental entity and are not registered with the Department of Justice under the Foreign Agents Registration Act. Members will represent a U.S. entity engaged in issues relevant to trade and development in sub-Saharan Africa that (a) is directly engaged in the import or export of goods or that sells its services abroad, or (b) is an association of such entities. For purposes of the preceding sentence, a “U.S. entity” is an organization (1) incorporated in the United States (or, if unincorporated, having its headquarters or principal place of business in the United States), and (2) controlled by U.S. citizens or by another U.S. entity. An entity is not a U.S. entity if 50 percent plus one share of its stock (if a corporation, or a similar ownership interest of an unincorporated entity) is controlled, directly or indirectly, by non-U.S. citizens or non-U.S. entities. If the nominee is to represent an entity or corporation with ten percent or greater non-U.S. ownership, the nominee must demonstrate at the time of nomination that this ownership interest does not constitute control and will not adversely affect his or her ability to serve as a trade advisor to the United States government. In addition to the industry representatives, the TACA may include representatives of nongovermental organizations involved in trade and development issues regarding sub-Saharan Africa. Sub-Saharan Africa trade and development experts must represent a U.S. entity engaged in issues relevant to the work of the TACA. A nongovernmental organization is a “U.S. entity” if the organization is (1) incorporated in the United States (or, if unincorporated, having its headquarters in the United States), (2) at least 50 percent of the organization's annual revenue is attributable to nongovernmental U.S. sources; and (3) more than 50 percent of its Board of Directors or membership is made up of U.S. citizens. If the nominee is to represent an organization more than ten percent of whose Board of Directors or membership is made up of non-U.S. citizens or non-U.S. entities, the nominee must be prepared to demonstrate at the time of nomination that this non-U.S. interest does not constitute control and will not adversely affect his or her ability to serve as a trade advisor to the United States.

Members are selected to represent their respective sponsoring U.S. entity's interests on sub-Saharan African trade matters, and thus nominees are considered foremost based upon their ability to carry out the goals of section 135(c) of the Trade Act of 1974, as amended. Other criteria are the nominee's knowledge of and expertise in international trade issues as relevant to the work of the TACA and that representation on the TACA is balanced in terms of sectors, demographics, and other interests. Additionally, USTR may appoint members expert in a relevant subject matter to serve in an individual capacity. Appointments to the TACA are made without regard to political affiliation.

All TACA members must be able to obtain and maintain a security clearance.

Application Procedures

In order to facilitate the prompt processing of submissions, USTR strongly urges and prefers electronic (e-mail) submissions to FR0616@ustr.eop.gov in response to this notice. In the event that an e-mail submission is impossible, submissions should be made by facsimile. Persons making submissions by e-mail should use the following subject line: “Trade Advisory Committee for Africa Nomination”. Documents should be submitted as WordPerfect, MSWord, or text (.TXT) files. Persons who make submissions by e-mail should not provide separate cover letters; information that might appear in a cover letter should be included in the submission itself. Similarly, to the extent possible, any attachments to the submission should be included in the same file as the submission itself, and not as separate files.

For consideration, a nominee should send (1) a sponsor letter, (2) a résume, with demonstrated knowledge of international trade and development issues with respect to sub-Saharan Africa, and (3) company or organization information to the e-mail address or facsimile number indicated above. Sponsor letters must be on the company or organization letterhead. Company or organization information must address the activities, products, or services of the U.S. entity to be represented and certify that the entity is a U.S. entity as defined in the Eligibility section above.

Florizelle Liser,
Assistant U.S. Trade Representative for African Affairs.

[FR Doc. E6-8086 Filed 5-25-06; 8:45 am]

BILLING CODE 3190-W6-P